DEPARTMENT OF ENERGY

Federal Energy Regulatory Commission

[Docket No. IC21-23-000]

Commission Information Collection Activities (FERC-725V); Comment Request; Extension

AGENCY: Federal Energy Regulatory Commission, Department of Energy.

ACTION: Notice of information collection and request for comments.

SUMMARY: In compliance with the requirements of the Paperwork Reduction Act of 1995, the Federal Energy Regulatory Commission (Commission or FERC) is soliciting public comment on the currently approved information collection, FERC-725V, Mandatory Reliability Standards: COM Reliability Standards.

DATES: Comments on the collection of information are due July 12, 2021.

ADDRESSES: You may submit copies of your comments (identified by Docket No. IC21-23-000) by one of the following methods:

Electronic filing through http://www.ferc.gov, is preferred.

• Electronic Filing: Documents must be filed in acceptable native applications and print-to-PDF, but not in scanned or picture format.

• For those unable to file electronically, comments may be filed by USPS mail or by hand (including courier) delivery:

○ Mail via U.S. Postal Service Only: Addressed to: Federal Energy Regulatory Commission, Secretary of the Commission, 888 First Street NE, Washington, DC 20426.

○ Hand (including courier) Delivery: Deliver to: Federal Energy Regulatory Commission, 12225 Wilkins Avenue, Rockville, MD 20852.

Instructions: All submissions must be formatted and filed in accordance with submission guidelines at: http://www.ferc.gov. For user assistance, contact FERC Online Support by email at ferconlinesupport@ferc.gov, or by phone at (866) 208-3676 (toll-free).

Docket: Users interested in receiving automatic notification of activity in this docket or in viewing/downloading comments and issuances in this docket may do so at http://www.ferc.gov.

FOR FURTHER INFORMATION CONTACT: Ellen Brown may be reached by email at DataClearance@FERC.gov, telephone at (202) 502-8663.

SUPPLEMENTARY INFORMATION: Title: FERC-725V, Mandatory Reliability Standards: COM Reliability Standards.

OMB Control No.: 1902-0277.

Type of Request: Three-year extension of the FERC-725V information collection requirements with no changes to the reporting requirements.

Abstract: On August 15, 2016, the North American Electric Reliability Corporation (NERC) filed a petition for Commission approval, pursuant to section 215(d)(1) of the Federal Power Act (“FPA”) ¹ and Section 39.5 ² of the Federal Energy Regulatory Commission's regulations, for Reliability Standard COM-001-3 (Communications), the associated Implementation Plan, retirement of currently-effective Reliability Standard COM-001-2.1, and Violation Risk Factors (“VRFs”) and Violation Severity Levels (“VSLs”) associated with new Requirements R12 and R13 in Reliability Standard COM-001-3. Reliability Standard COM-001-3 reflects revisions developed under Project 2015-07 Internal Communications Capabilities, in compliance with the Commission's directive in Order No. 888 that NERC “develop modifications to COM-001-2, or develop a new standard, to address the Commission's concerns regarding ensuring the adequacy of internal communications capability whenever internal communications could directly affect the reliability opera.

¹ 16 U.S.C. 824o (2012).

² 18 CFR 39.5 (2015).

Reliability Standards COM-001-3 and COM-002-4 do not require responsible entities to file information with the Commission. COM-001-3 requires that transmission operators, balancing authorities, reliability coordinators, distribution providers, and generator operators must maintain documentation of Interpersonal Communication capability and designation of Alternate Interpersonal Communication, as well as evidence of testing of the Alternate Interpersonal Communication facilities. COM-002-4 requires balancing authorities, distribution providers, reliability coordinators, transmission operators, and generator operators to develop and maintain documented communication protocols, and to be able to provide evidence of training on the protocols and of their annual assessment of the protocols. Additionally, all applicable entities (balancing authorities, reliability coordinators, transmission operators, generator operators, and distribution providers) must be able to provide evidence of three-part communication when issuing or receiving an Operating Instruction during an Emergency.

Type of Respondents: Public utilities.

Estimate of Annual Burden: ³ The Commission estimates the annual public reporting burden for the information collection as:

³ The Commission defines burden as the total time, effort, or financial resources expended by persons to generate, maintain, retain, or disclose or provide information to or for a Federal agency. For further explanation of what is included in the information collection burden, reference 5 Code of Federal Regulations 1320.3.

FERC-725V—Mandatory Reliability Standards: COM Reliability Standards
| Number of respondents | Annual number of responses per respondent | Total number of responses | Average burden and cost per response 4 | Total annual burden hours and total annual cost ($) | Cost per respondent ($)
| (1) | (2) | (1) * (2) = (3) | (4) | (3) * (4) = (5) | (5) ÷ (1)
(On-going) Maintain evidence of Interpersonal Communication capability 5 | 1,313 (BA, DP, GOP, RC & TOP) | 1 | 1,313 | 4 hrs.; $228 | 5,252 hrs.; $299,364 | $228
(On-going) Maintain evidence of training and assessments 6 | 199 (BA, RC & TOP) | 1 | 199 | 8 hrs.; 456 | 1,592 hrs.; 90,744 | 456
(On-going) Maintain evidence of training 7 | 1,257 (DP & GOP) | 1 | 1,257 | 8 hrs.; 456 | 10,056 hrs.; 573,192 | 456
Total |  |  | 2,769 |  | 16,900 hrs.; 963,300 |

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

⁴ The estimates for cost per response are loaded hourly wage figure (includes benefits) is based on two occupational categories for 2020 found on the Bureau of Labor Statistics website (http://www.bls.gov/oes/current/naics2_22.htm): The hourly estimates for salary plus benefits are: (a) Electrical Engineer (code 17-2071), $70.19; (b) Information and Record Clerk (code 43-4199), $43.38. The average hourly cost (salary plus benefits), weighting both skill sets equally, is $56.79. For these calculations, we round the figure to $57.00 per hour.

⁵ For COM-001-3 the BA, RC, TOP, GOP, DP were taken as aggregate to eliminate overlap if the same entity has multiple registrations.

⁶ For COM-002-4 the BA, RC and TOP were taken as aggregate to eliminate overlap if the same entity has multiple registration.

⁷ For COM-002-4 the DP and GOP were taken as aggregate to eliminate overlap if the same entity has multiple registrations.

Dated: May 6, 2021.
Debbie-Anne A. Reese,
Deputy Secretary.

[FR Doc. 2021-10008 Filed 5-11-21; 8:45 am]

BILLING CODE 6717-01-P